DEPARTMENT OF JUSTICE

[Docket No. ODAG 160]

National Commission on Forensic Science Solicitation of Applications for Additional Commission Membership To Support Digital Evidence

AGENCY: Department of Justice.

ACTION: Notice of solicitation of applications for additional commission membership for the National Commission on Forensic Science specifically to fill a current vacancy to support digital evidence.

SUMMARY: Pursuant to the Federal Advisory Committee Act, as amended, this notice announces the solicitation of applications for additional Commission membership to fill a current vacancy to support digital evidence.

DATES: Applications must be received on or before May 18, 2016.

ADDRESSES: All applications should be submitted to: Jonathan McGrath, Designated Federal Official, 810 Seventh St. NW., Washington, DC 20531, or by email at Jonathan.McGrath@usdoj.gov.

FOR FURTHER INFORMATION CONTACT: Jonathan McGrath, Designated Federal Official, 810 Seventh St. NW., Washington, DC 20531, by email at Jonathan.McGrath@usdoj.gov, or by phone at (202) 514-6277.

SUPPLEMENTARY INFORMATION: Pursuant to the Federal Advisory Committee Act, as amended (5 U.S.C. App.), this notice announces the solicitation of applications for additional Commission membership on the National Commission on Forensic Science to fill current vacancies. The National Commission on Forensic Science was chartered on April 23, 2013 and the charter was renewed on April 23, 2015. There is currently a Commissioner vacancy to support digital evidence. This notice announces the solicitation of applications for Commission membership to fill the digital evidence vacancy.

The Commission is co-chaired by the Department of Justice and National Institute of Standards and Technology. The Commission provides recommendations and advice to the Department of Justice concerning national methods and strategies for: Strengthening the validity and reliability of the forensic sciences (including medico-legal death investigation); enhancing quality assurance and quality control in forensic science laboratories and units; identifying and recommending scientific guidance and protocols for evidence seizure, testing, analysis, and reporting by forensic science laboratories and units; and identifying and assessing other needs of the forensic science communities to strengthen their disciplines and meet the increasing demands generated by the criminal and civil justice systems at all levels of government. Commission membership includes Federal, State, and Local forensic science service providers; research scientists and academicians; prosecutors, defense attorneys, and judges; law enforcement; and other relevant backgrounds. The Commission reports to the Attorney General, who through the Deputy Attorney General, shall direct the work of the Commission in fulfilling its mission.

The duties of the Commission include: (a) Recommending priorities for standards development; (b) reviewing and recommending endorsement of guidance identified or developed by subject-matter experts; (c) developing proposed guidance concerning the intersection of forensic science and the courtroom; (d) developing policy recommendations, including a uniform code of professional responsibility and minimum requirements for training, accreditation and/or certification; and (e) identifying and assessing the current and future needs of the forensic sciences to strengthen their disciplines and meet growing demand.

Members will be appointed by the Attorney General in consultation with the Director of the National Institute of Standards and Technology and the vice-chairs of the Commission. Commission members are selected to fill vacancies to maintain a balance of perspective and diversity of experiences, including Federal, State, and Local forensic science service providers; research scientists and academicians; Federal, State, Local prosecutors, defense attorneys and judges; law enforcement; and other relevant stakeholders. DOJ encourages submissions from applicants with respect to diversity of backgrounds, professions, ethnicities, gender, and geography. The Commission shall consist of approximately 30 voting members. Members will serve without compensation. The Commission generally meets four times each year at approximately three-month intervals. Additional information regarding the Commission can be found here: http://www.justice.gov/ncfs.

Applications: Any qualified person may apply to be considered for appointment to this advisory committee. Each application should include: (1) A resume or curriculum vitae; (2) a statement of interest describing the applicant's relevant experience; and (3) a statement of support from the applicant's employer. Potential candidates may be asked to provide detailed information as necessary regarding financial interests, employment, and professional affiliations to evaluate possible sources of conflicts of interest. The application period will remain open through May 18, 2016. The applications must be sent in one complete package, by email, to Andrew Bruck (contact information above) with the subject line of the email entitled, “NCFS Membership 2016.” Other sources, in addition to the Federal Register notice, may be utilized in the solicitation of applications.

Dated: April 12, 2016.
Andrew Bruck,
Senior Counsel, Office of the Deputy Attorney General.

[FR Doc. 2016-08926 Filed 4-15-16; 8:45 am]

BILLING CODE 4410-18-P